DEPARTMENT OF TRANSPORTATION

Surface Transportation Board

[STB Finance Docket No. 34930]

Brandon Railroad LLC—Acquisition Exemption—Brandon Corp.

Brandon Railroad, LLC (BRR), a noncarrier, has filed a verified notice of exemption under 49 CFR 1150.31 for the acquisition of approximately 17.3 miles of rail line from the Brandon Corporation (Brandon) in the former Omaha-South Omaha switching district in Omaha, NE. Prior to 1978, the lines were operated by the South Omaha Terminal Railroad Company and have no mileposts associated with them. The lines were expected to be conveyed by Brandon to BRR on or shortly after September 8, 2006.

BRR certifies that its projected annual revenues as a result of the transaction will not result in BRR becoming a Class II or Class I rail carrier, and will not exceed $5 million.

The exemption became effective on September 8, 2006 (7 days after the exemption was filed).

If the notice contains false or misleading information, the exemption is void ab initio. Petitions to revoke the exemption under 49 U.S.C. 10502(d) may be filed at any time. The filing of a petition to revoke will not automatically stay the transaction.

An original and ten copies of all pleadings, referring to STB Finance Docket No. 34930, must be filed with the Surface Transportation Board, 1925 K Street, NW., Washington, DC 20423-0001. In addition, one copy of each pleading must be served on Karl Morell, Of Counsel., Ball Janik LLP, 1455 F Street, NW., Suite 225, Washington, DC 20005.

Board decisions and notices are available on our Web site at www.stb.dot.gov.

Decided: September 19, 2006.
By the Board, David M. Konschnik, Director, Office of Proceedings.
Vernon A. Williams,
Secretary.

[FR Doc. E6-15728 Filed 9-25-06; 8:45 am]

BILLING CODE 4915-01-P